DEPARTMENT OF LABOR

Employment and Training Administration

20 CFR Part 646

RIN 1205-AB16

Indian and Native American Welfare-to-Work Program

AGENCY: Employment and Training Administration, Labor.

ACTION: Final rule.

SUMMARY: The Employment and Training Administration (ETA) of the Department of Labor (DOL) is removing the regulations at 20 CFR part 646 which govern the Indian and Native American Welfare-to-Work (INA WtW) Program authorized under the Social Security Act. Authorization for this program has expired, and all grants were required to be closed out by December 31, 2004, at the latest. Therefore, the Department has no need for these INA WtW regulations, and this action is undertaken to reduce the Federal regulatory burden and eliminate unneeded rules from the Code of Federal Regulations.

DATES: Effective July 14, 2005.

FOR FURTHER INFORMATION CONTACT: Athena R. Brown, Chief, Division of Indian and Native American Programs (DINAP), at 202-693-3737 (this is not a toll-free number).

Copies of this Final Rule are available in the following formats: Hard copy, or electronic file, either through e-mail or on computer disk. Copies may be obtained at the above office.

SUPPLEMENTARY INFORMATION: ETA is removing the regulations at 20 CFR part 646 which govern the INA WtW Program authorized under the Social Security Act (42 U.S.C. 301, et seq.).

On August 5, 1997, the President signed the Balanced Budget Act of 1997 (Pub. L. 105-33). This legislation amended provisions of the Social Security Act relating to the Temporary Assistance for Needy Families program (TANF) and authorized the Secretary of Labor to provide WtW grants to States and local communities, including certain Federally-recognized tribes and Alaska Native entities, to assist hard-to-employ TANF welfare recipients in moving into unsubsidized jobs and achieving economic self-sufficiency. Accordingly, pursuant to 42 U.S.C. 612(a)(3)(C)(iii), the Department of Labor promulgated the regulations found at 20 part CFR 646, which were published as an interim final rule in the Federal Register (63 FR 15986) on April 1, 1998. The funds distributed through the WtW grant program assisted states and tribes, including those operating their own TANF programs, to meet their welfare reform objectives by providing additional resources targeting hard-to-employ welfare recipients residing in high poverty areas within the state or the tribe's service area.

The Omnibus Consolidated Appropriations Act of 2001 (Pub. L. 106-554) authorized the Department to extend all Welfare-to Work grants, including the INA WtW grants, for an additional two years beyond the three-year expenditure period authorized under the initial legislation. However, that extension period expired as of September 30, 2004, for those grants issued in Fiscal Year (FY) 1999 (the extension period for the FY 1998 INA WtW grants expired as of September 30, 2003). Because most of the FY 1998 INA WtW grants have already been closed out, and because the FY 1999 INA WtW grants were required to be closed out by December 31, 2004, the Department has no need for these INA WtW regulations. Therefore, this action is undertaken to reduce the Federal regulatory burden and eliminate unneeded rules from the Code of Federal Regulations.

Effective Date and Waiver of Public Comment

This document removes obsolete regulations from the Code of Federal Regulations. Removal of the regulations does not establish or affect substantive policy. Therefore, the Department of Labor has determined, pursuant to 5 U.S.C. 553(b)(3)(B) and (d), that good cause exists to waive the delay of the effective date of this rule and that public comment is unnecessary and contrary to the public interest.

Catalog of Federal Domestic Assistance Number

This program is listed in the Catalog of Federal Domestic Assistance at No. 17-254, “Welfare-to-Work Grants to Federally-Recognized Tribes and Alaska Natives.”

List of Subjects in 20 CFR Part 646

Indians, Grant programs, Labor, Employment or training programs, Welfare reform.

Accordingly, under the authority of 42 U.S.C. 612(a)(3)(C)(iii), the Secretary amends 20 CFR chapter V by removing part 646.

PART 646—[REMOVED AND RESERVED]

1. Remove and reserve part 646.

Signed at Washington, DC, this 7th day of July, 2005.
Emily Stover DeRocco,
Assistant Secretary, Employment and Training Administration.

[FR Doc. 05-13705 Filed 7-13-05; 8:45 am]

BILLING CODE 4510-30-P